CONSUMER PRODUCT SAFETY COMMISSION

Sunshine Act Meetings

Time and Date: Wednesday, November 4, 2009, 9 a.m.-12 noon.

Place: Hearing Room 420, Bethesda Towers, 4330 East-West Highway, Bethesda, Maryland.

Status: Commission Meeting—Open to the Public.

Matters to be Considered: Pending Decisional Matter: Brass Lead Exclusion Petition.

(Immediately following the decision, the Public Hearing on Unblockable Drains will begin.)

A live webcast of the Meeting can be viewed at http://www.cpsc.gov/webcast/index.html.

For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: October 23, 2009.
Todd A. Stevenson,
Secretary.

[FR Doc. E9-26067 Filed 10-29-09; 8:45 am]

BILLING CODE 6355-01-M